DEPARTMENT OF THE INTERIOR

Minerals Management Service

Agency Information Collection Activities: Proposed Collections; Comment Request

AGENCY: Minerals Management Service (MMS), Interior.

ACTION: Notice of extension and revision of information collection forms.

SUMMARY: To comply with the Paperwork Reduction Act of 1995 (PRA), we are inviting comments on forms MMS-123, MMS-123S, MMS-124, MMS-125, and MMS-133. The current Office of Management and Budget (OMB) approval of these forms expires in September 2002. MMS has retitled and revised the forms, which we will submit to OMB for approval. The modifications are an integral part of the new “E-Forms Permit Process” we are developing to provide an electronic option for drilling and well permitting and information submission.

DATE: Submit written comments by July 1, 2002.

ADDRESSES: Mail or hand-carry comments to the Department of the Interior; Minerals Management Service; Attention: Rules Processing Team; Mail Stop 4024; 381 Elden Street; Herndon, Virginia 20170-4817.

FOR FURTHER INFORMATION CONTACT: Alexis London, Rules Processing Team, Engineering and Operations Division, telephone (703) 787-1600.

SUPPLEMENTARY INFORMATION:

Titles—OMB Control Numbers: The new titles of the revised forms are listed with the current titles shown in parenthesis.

Form MMS-123, Permit to Drill a Well (Application for Permit to Drill (APD))—1010-0044.

Form MMS-123S, Permit to Drill Supplemental Information Sheet (Supplemental APD Information Sheet)—1010-0131.

Form MMS-124, Permit to Modify a Well (Sundry Notices and Reports on Wells—1010-0045.

Form MMS-125, End of Operations Report (Well Summary Report)—1010-0046.

Form MMS-133, Well Activity Report (Weekly Activity Report)—1010-0132.

Abstract: The Outer Continental Shelf (OCS) Lands Act, as amended (43 U.S.C. 1331 et seq. and 43 U.S.C. 1801 et seq.), authorizes the Secretary of the Interior to prescribe rules and regulations to administer leasing of the OCS. Such rules and regulations will apply to all operations conducted under a lease. Operations on the OCS must preserve, protect, and develop oil and natural gas resources in a manner which is consistent with the need to make such resources available to meet the Nation's energy needs as rapidly as possible; to balance orderly energy resource development with protection of human, marine, and coastal environments; to ensure the public a fair and equitable return on the resources of the OCS; and to preserve and maintain free enterprise competition.

This notice pertains to the MMS forms listed previously that are used to submit information required under 30 CFR 250, subpart D, Drilling Operations; subpart E, Well-Completion Operations; subpart F, Well-Workover Operations; subpart G, Abandonment of Wells; and subpart P, Sulphur Operations. Responses are mandatory. No questions of a “sensitive” nature are asked. MMS will protect proprietary information according to 30 CFR 250.196 (Data and information to be made available to the public), 30 CFR part 252 (OCS Oil and Gas Information Program), and the Freedom of Information Act (5 U.S.C. 552) and its implementing regulations (43 CFR 2).

To implement the Government Paperwork Elimination Act and to streamline data collection, MMS is developing systems to provide electronic options for lessees and operators to use in submitting information and requesting approvals. This year, we expect to begin pilot testing the electronic submission of drilling and well information in a new “E-Forms Permit Process.” In developing this system, we have determined that some revisions are needed to the drilling and well information forms discussed in this notice. The new titles and changes to the paper forms are intended to acquaint the users with, and duplicate as closely as possible, the E-Forms Permit Process, which we anticipate will be fully implemented in FY 2003. Although initially the E-Forms Permit Process will be an alternative to submitting the paper forms, we expect that eventually it will eliminate the paper forms. As indicated, all of the forms have been retitled and the data fields renumbered. We have eliminated some data fields that were either duplicative or no longer needed, renamed some sections and data fields, relocated data fields from one form to another, and added some data fields. It should be noted that the added data fields should not impose any additional burden on respondents as they previously included the information in accompanying attachments, and are not actually new information.

Additionally, on several of the forms, the well location field is changed to accommodate the more up-to-date NAD 83 format, which will be used in the E-Forms Permit Process. Respondents generally use location data in NAD 83 format, and must now convert the data in their MMS submissions to the NAD 27 format. This is burdensome for them and inaccurate for MMS because they can use different conversion factors in their submittals. (The Gulf of Mexico OCS Region will update its current policy discussed in NTL No. 99-G17 on this subject when OMB approves these forms.)

The modified forms are published as appendices 1 through 5 to this notice. The following explains how we use the information collected on each form. In addition to the general modifications previously discussed, the significant changes proposed for each form individually are explained.

• Forms MMS-123 and MMS-123S. MMS uses the information submitted to determine the conditions of a drilling site to avoid hazards inherent in drilling operations. District Offices use the information to evaluate the adequacy of a lessee's drilling, well-completion, well-workover, and well-abandonment plans and equipment to determine if the proposed operations will be conducted in an operationally safe manner with adequate protection for the environment. Except for proprietary data, the OCS Lands Act requires MMS to make available to the public the APD information. Changes to the forms include:

Proposal to Drill (form MMS-123)—This data field replaces the first item on the current form MMS-123 and specifies the three types (new well, sidetrack, bypass) of drilling procedures for permitting. Sidetrack and bypass drilling procedures are currently submitted on form MMS-124. The modified form MMS-123 will now include all drilling procedures that invoke a change in the American Petroleum Institute (API) well number. The MMS engineer will assign the approved API well number for both sidetracks and bypasses, as well as new wells.

Well Name, Sidetrack No., and Bypass No. (both forms)—These identifiers are added to help eliminate confusion with regard to well naming and numbering.

Plan Identification No. (form MMS-123)—Before drilling a new well, it must be covered under an approved plan. This new data field corresponds with the E-Forms Permit Process. Identifying the plan will aid the MMS engineer in obtaining information from the Plan to determine if the general plan and drilling location (surface and bottomhole) have been analyzed and approved.

List of Significant Markers Anticipated (form MMS-123)—This information is currently immersed in the drilling prognosis attached to the form. Operators are required by regulations to state the “estimated depths to the top of significant marker formations” (30 CFR 250.414(f)(5)(iii)). The addition of this section transfers the information from the detailed open-format drilling prognosis currently included in the attachments.

H2S Designation and Activation Plan Depth (form MMS-123S)—Wells containing H2S are only about 1 percent of the total but pose such a significant threat that MMS and Industry should take extra precautions in defining the presence of H2S-bearing formations throughout the OCS. Adding these data fields will allow MMS inspectors to verify that H2S safety equipment is in place prior to drilling through potential H2S zones.

Drilling Fluid Information (form MMS-123S)—We replaced the entire drilling fluid information/statements section with a simple one-line “Yes” or “No” question.

Eliminated Data Fields—We have eliminated as many of the data fields as possible on form MMS-123 to reduce duplication with form MMS-123S, and eliminated several that are not used in approval processing. The form MMS-123 data fields removed are: Field Name, Unit No., OPD No., Surface and Bottom Location, Rig Name, Rig Type, Water Depth, Elevation at KB, Total Depth, Type of Well, Contact Name, and Contact Telephone No. In addition, we removed data fields for Area/Block and Approximate Date Work Will Start from form MMS-123S.

• Form MMS-124. MMS District Supervisors use the information to evaluate the adequacy of the equipment, materials, and/or procedures that the lessee plans to use for drilling, production, well-completion, well-workover, and well-abandonment operations. We use the information to ensure that levels of safety and environmental protection are maintained. We review the information concerning requests for approval or subsequent reporting of well-completion, well-workover, or abandonment operations to ensure that procedures and equipment are appropriate for the anticipated conditions. Changes to the form include:

Well Name, Sidetrack No., and Bypass No.—Approval for these “initial” drilling activities are currently requested on form MMS-124 but will be transferred to the revised form MMS-123. “Modifications” will continue to be submitted on form MMS-124 and the assigned well name and numbers identified.

Rig Name or Primary Unit—Primary unit was added to include wireline units, coil tubing units, and snubbing units, which may be used in lieu of a rig to complete the permitted operation. The E-Forms Permit Process will include the identification of the type of equipment movement onto platforms, which are designated by type and are not named as with rig.

Proposed or Completed Work—Some operations that require approval are modified to reflect current policy. Plugback to Sidetrack/Bypass defines plugback as abandonment of a sidetrack/bypass. Modify Perforations (changing the length interval previously approved) eliminates the operation of “adding perforations.” Acidize with Coil Tubing defines that this operation need only be permitted when using a coil tubing unit. Bullheading (pumping down the tubing) acid into a well no longer requires a permit.

Eliminated Data Fields—We have eliminated three data fields (Field Name, Unit No., and OPD No.) that are not used in approval processing.

• Form MMS-125. District Supervisors use the information to ensure that they have accurate data on the wells under their jurisdiction and to ensure compliance with approved plans. It is also used to evaluate remedial action in well-equipment failure or well-control loss situations. Changes to the form include:

Well Name, Sidetrack No., and Bypass No.—These identifiers are added to help eliminate confusion with regard to well naming and numbering.

Kick Off Point (KOP)—The addition of this data field transfers the information now located on the well schematic that is part of an attachment to the form. The KOP from the original well to a sidetrack or bypass indicates at what depth a new unique wellbore begins. This is critical since open hole data are collected, tracked, and verified by wellbore. Assigning the open hole data to the correct wellbore is essential to reserve and resource estimations, conservation issues, fair market value determinations, and placing the wellbore in the proper field.

Perforated Interval(s) this Completion—This section will include three data fields for information now included on supplemental attachments to form MMS-125. The data correspond to fields included in our database that MMS personnel now populate. The fields are: If Subsea Completion (Type of Protection), Buoy Installed, Tree Height Above Mudline.

Acid, Fracture, Cement Squeeze, Plugging Program, Etc.—The data fields from this section on current form MMS-125 are relocated and modified or eliminated. The cement squeeze/plugging portion is relocated to the Abandonment History of Well section and modified to obtain more relevant abandonment information on the well that is now included on supplemental attachments to form MMS-125. The acid/fracture operations portion is eliminated.

Abandonment History of Well—In addition to the relocated cement squeeze/plugging data, this section will include three data fields for information now included on supplemental attachments to form MMS-125. The fields are: If Stub (Type of Protection), Buoy Installed, Stub Height Above Mudline.

Hydrocarbon Bearing Intervals—This section is renamed and includes slightly reworded data fields from the Summary of Porous Zones and Formation sections of the current MMS-125.

List of Significant Markers—This section is simply renamed from the Geologic Markers section on the current MMS-125.

Eliminated Data Fields—We have eliminated three data fields (Field Name, Unit No., and OPD No.) that are not used in approval processing. Because the data are already collected on form MMS-133, we also eliminated the sections on: Casing Record; Liner/Screen Record; and former “item 77” requiring a List of Electric and Other Logs Run, Directional Surveys, Velocity Surveys, and Core Analysis. The Tubing Record section is relocated to form MMS-133.

• Form MMS-133. District Office engineers review and use this information to: monitor the conditions of a well and status of drilling operations; be aware of the well conditions and current drilling activity (i.e., well depth, drilling fluid weight, casing types and setting depths, completed well logs, and recent safety equipment tests and drills); determine how accurately the lessee anticipated well conditions and if the lessee is following the approved APD; and analyze requests to revise an APD (i.e., revised grade of casing or deeper casing setting depth). Without this information, MMS would be unable to monitor drilling operations from off-site. The alternative to requiring drilling activity reports would be to conduct many more onsite inspections. However, the additional inspectors and helicopters to transport them would not be efficient or cost effective. Furthermore, lessees would likely experience delays in obtaining timely approvals to revise drilling plans because District Offices would not have current and complete information. Changes to the form include:

Well Name, Sidetrack No., and Bypass No.—These identifiers are added to help eliminate confusion with regard to well naming and numbering.

Rig Name or Primary Unit—Primary unit was added to include wireline units, coil tubing units, and snubbing units, which may be used in lieu of a rig to complete the permitted operation. The E-Forms Permit Process will include the identification of the type of equipment movement onto platforms, which are designated by type and are not named as with rigs.

Casing/Liner/Tubing Record—This section was modified and includes data elements relocated from form MMS-125. This information will now be reported cumulatively on each form MMS-133 report and completed at the end of the well operation.

Frequency: Forms MMS-123, MMS-123S, MMS-124, and MMS-125 are on occasion; form MMS-133 is weekly.

Estimated Number and Description of Respondents: Approximately 130 Federal OCS oil and gas lessees.

Estimated Reporting and Recordkeeping “Hour” Burden: We estimate the following burdens for submitting the paper copies of these revised forms. It should be recognized that when the new E-Forms Permit Process is fully implemented, it should result in reduced burden hours. However, these anticipated burden reductions are not yet determined, as they will depend on the upcoming pilot testing. The annual burden hours shown for each form were the totals previously estimated and approved by OMB.

Form MMS-123: 2½ hours per form; annual burden of 4,078 hours.

Form MMS-123S: 1½ hour per form; annual burden of 683 hours.

Form MMS-124: 1¼ hours per form; annual burden of 11,875 hours.

Form MMS-125: 1 hour per form; annual burden of 2,275 hours.

Form MMS-133: 1 hour per form; annual burden of 2,275 hours.

Estimated Reporting and Recordkeeping “Non-Hour Cost” Burden: We have identified no “non-hour cost” burdens associated with the subject forms.

Public Disclosure Statement: The PRA (44 U.S.C. 3501, et seq.) provides that an agency may not conduct or sponsor a collection of information unless it displays a currently valid OMB control number. Until OMB approves a collection of information, you are not obligated to respond.

Comments: Before submitting an information collection request to OMB, PRA section 3506(c)(2)(A) requires each agency “* * * to provide notice * * * and otherwise consult with members of the public and affected agencies concerning each proposed collection of information * * *”. Agencies must specifically solicit comments to: (a) evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology. We will summarize written responses to this notice and address them in our submission for OMB approval, including any appropriate adjustments to the estimated burdens.

Agencies must estimate both the “hour” and “non-hour cost” burdens to respondents or recordkeepers resulting from the collection of information. We have identified no non-hour cost burdens for the information collection aspects of the subject forms. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. You should not include estimates for equipment or services purchased: (i) before October 1, 1995; (ii) to comply with requirements not associated with the information collection; (iii) for reasons other than to provide information or keep records for the Government; or (iv) as part of customary and usual business or private practices.

Public Comment Policy: Our practice is to make comments, including names and home addresses of respondents, available for public review during regular business hours. Individual respondents may request that we withhold their home address from the record, which we will honor to the extent allowable by law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

MMS Information Collection Clearance Officer: Jo Ann Lauterbach, (202) 208-7744.

Dated: April 1, 2002.
E.P. Danenberger,
Chief, Engineering and Operations Division.

Appendices 1-5: Forms MMS-123, 123S, 124, 125, and 133

BILLING CODE 4310-MR-W

[FR Doc. 02-10772 Filed 4-30-02; 8:45 am]

BILLING CODE 4310-MR-C